FEDERAL COMMUNICATIONS COMMISSION

47 CFR Part 1

[Gen Docket No. 86-285; FCC 02-202]

Schedule of Application Fees

AGENCY: Federal Communications Commission.

ACTION: Final rule.

SUMMARY: In this document the Commission has amended its Schedule of Application Fees to adjust the fees for processing applications and other filings. Section 8(b) of the Communications Act requires the Commission to adjust its application fees every two years after October 1, 1991 to reflect the net change in the Consumer Price Index for all Urban Consumers (CPI-U). The increased fees reflect the net change in the CPI-U of 40 percent, calculated from December 1989 to October 2001.

DATES: Effective December 5, 2002.

FOR FURTHER INFORMATION CONTACT: Claudette Pride, Office of the Managing Director at (202) 418-1995.

SUPPLEMENTARY INFORMATION: In the Matter of the Schedule of Application Fees Set Forth in §§ 1.1102 through 1.1107 of the Commission's rules.

Adopted: July 1, 2002;

Released: July 12, 2002.

By this action, the Commission amends its Schedule of Application Fees, 47 CFR 1.1102 et seq., to adjust the fees for processing applications and other filings. Section 8(b) of the Communications Act, as amended, requires that the Commission review and adjust its application fees every two years after October 1, 1999. 47 U.S.C. 158(b). The adjusted or increased fees reflect the net change in the Consumer Price Index for all Urban Consumers (CPI-U) of 40 percent, calculated from December 1989 to October 2001. The adjustments made to the fee schedule comport with the statutory formula set forth in section 8(b).

List of Subjects in 47 CFR Part 1

Administrative practice and procedures.

Federal Communications Commission.
Marlene H. Dortch,
Secretary.

For the reasons discussed in the preamble, the Federal Communications Commission amends 47 CFR Part 1 as follows:

PART 1—PRACTICE AND PROCEDURE

1. The authority citation for Part 1 continues to read as follows:

Authority: 47 U.S.C. 154, 303, 503(b)(5); 5 U.S.C. 552 and 21 U.S.C. 853a, unless otherwise noted.

2. Section 1.1102 is revised to read as follows:

§ 1.1102 Schedule of charges for applications and other filings in the wireless telecommunications services.

Those services designated with an asterisk in the payment type code column have associated regulatory fees that must be paid at the same time the application fee is paid. Please refer to § 1.1152 for the appropriate regulatory fee that must be paid for this service.

Action | FCC Form No. | Fee amount | Payment type code | Address
1. Marine Coast
a. New; Renewal/Modification | 601 & 159 | $100.00 | PBMR* | Federal Communications Commission, Wireless Bureau Applications, P.O. Box 358130, Pittsburgh, PA 15251-5130.
b. Modification, Public Coast CMRS; Non-Profit | 601 & 159 | 100.00 | PBMM | Federal Communications Commission, Wireless Bureau Applications, P.O. Box 358130, Pittsburgh, PA 15251-5130.
c. Assignment of Authorization | 601 & 159 | 100.00 | PBMM | Federal Communications Commission, Wireless Bureau Applications, P.O. Box 358130, Pittsburgh, PA 15251-5130.
d. Transfer of Control | 601 & 159 | 50.00 | PATM | Federal Communications Commission, Wireless Bureau Applications, P.O. Box 358130, Pittsburgh, PA 15251-5130.
e. Duplicate License | 601 & 159 | 50.00 | PADM | Federal Communications Commission, Wireless Bureau Applications, P.O. Box 358130, Pittsburgh, PA 15251-5130.
f. Special Temporary Authority | 601 & 159 | 145.00 | PCMM | Federal Communications Commission, Wireless Bureau Applications, P.O. Box 358130, Pittsburgh, PA 15251-5130.
g. Renewal Only | 601 & 159 | 100.00 | PBMR* | Federal Communications Commission, Wireless Bureau Applications, P.O. Box 358245, Pittsburgh, PA 15251-5245.
h. Renewal (Electronic Filing) | 601 & 159 | 100.00 | PBMR* | Federal Communications Commission, Wireless Bureau Applications (ELT), P.O. Box 358994, Pittsburgh, PA 15251-5994.
i. Renewal Only (Non-Profit; CMRS) | 601 & 159 | 100.00 | PBMM | Federal Communications Commission, Wireless Bureau Applications, P.O. Box 358245, Pittsburgh, PA 15251-5245.
j. Renewal (Electronic Filing) Non-profit, CMRS | 601 & 159 | 100.00 | PBMM | Federal Communications Commission, Wireless Bureau Applications, P.O. Box 358994, Pittsburgh, PA 15251-5994.
k. Rule Waiver | 601 & 159 | 150.00 | PDWM | Federal Communications Commission, Wireless Bureau Applications. P.O. Box 358130, Pittsburgh, PA 15251-5130.
2. Aviation Ground
a. New; Renewal/Modification | 601 & 159 | 100.00 | PBVR* | Federal Communications Commission, Wireless Bureau Applications, P.O. Box 358130, Pittsburgh, PA 15251-5130.
b. Modification; Non-Profit | 601 & 159 | 100.00 | PBVM | Federal Communications Commission, Wireless Bureau Applications, P.O. Box 358130, Pittsburgh, PA 15251-5130.
c. Assignment of Authorization | 601 & 159 | 100.00 | PBVM | Federal Communications Commission, Wireless Bureau Applications, P.O. Box 358130, Pittsburgh, PA 15251-5130.
d. Transfer of Control | 603 & 159 | 50.00 | PATM | Federal Communications Commission, Wireless Bureau Applications, P.O. Box 358130, Pittsburgh, PA 15251-5130.
e. Duplicate License | 601 & 159 | 50.00 | PADM | Federal Communications Commission, Wireless Bureau Applications, P.O. Box 358130, Pittsburgh, PA 15251-5130.
f. Special Temporary Authority | 601 & 159 | 145.00 | PCVM | Federal Communications Commission, Wireless Bureau Applications, P.O. Box 358130, Pittsburgh, PA 15251-5130.
g. Renewal Only | 601 & 159 | 100.00 | PBVR* | Federal Communications Commission, Wireless Bureau Applications, P.O. Box 358245, Pittsburgh, PA 15251-5245.
h. Renewal (Electronic Filing) | 601 & 159 | 100.00 | PBVR* | Federal Communications Commission, Wireless Bureau Applications (ELT), P.O. Box 358994, Pittsburgh, PA 15251-5994.
i. Renewal Only (Non-Profit) | 601 & 159 | 100.00 | PBVM | Federal Communications Commission, Wireless Bureau Applications, P.O. Box 358245, Pittsburgh, PA 15251-5245.
j. Renewal (Electronic Filing) (Non-Profit) | 601 & 159 | 100.00 | PBVM | Federal Communications Commission, Wireless Bureau Applications (ELT), P.O. Box 358994, Pittsburgh, PA 15251-5994.
k. Rule Waiver | 601 & 159 | 150.00 | PDWM | Federal Communications Commission, Wireless Bureau Applications, P.O. Box 358130, Pittsburgh, PA 15251-5130.
3. Ship
a. New, Renewal/Modification | 605 & 159 | 50.00 | PASR* | Federal Communications Commission, Wireless Bureau Applications, P.O. Box 358130, Pittsburgh, PA 15251-5130.
b. Modification; Non-profit | 605 & 159 | 50.00 | PASM | Federal Communications Commission, Wireless Bureau Applications, P.O. Box 358130, Pittsburgh, PA 15251-5130.
c. Duplicate License | 605 & 159 | 50.00 | PADM | Federal Communications Commission, Wireless Bureau Applications, P.O. Box 358130, Pittsburgh, PA 15251-5130.
d. Exemption from Ship Station Requirements | 820 & 159 | 150.00 | PDWM | Federal Communications Commission, Wireless Bureau Applications, P.O. Box 358130, Pittsburgh, PA 15251-5130.
e. Rule Waiver | 605 & 159 | 150.00 | PDWM | Federal Communications Commission, Wireless Bureau Applications, P.O. Box 358130, Pittsburgh, PA 15251-5130.
4. Aircraft
New; Renewal/Modification | 605 & 159 | 50.00 | PAAR* | Federal Communications Commission, Wireless Bureau Applications, P.O. Box 358130, Pittsburgh, PA 15251-5130.
b. New; Renewal; Modification (Electronic Filing) | 605 & 159 | 50.00 | PAAR* | Federal Communications Commission, Wireless Bureau Applications (ELT), P.O. Box 358994, Pittsburgh, PA 15251-5994.
c. Modification Non-Profit | 605 & 159 | 50.00 | PAAM | Federal Communications Commission, Wireless Bureau Applications, P.O. Box 358130, Pittsburgh, PA 15251-5130.
d. Modification; Non-Profit (Electronic Filing) | 605 & 159 | 50.00 | PAAM | Federal Communications Commission, Wireless Bureau Applications (ELT), P.O. Box 358994, Pittsburgh, PA 15251-5994.
e. Renewal Only | 605 & 159 | 50.00 | PAAR* | Federal Communications Commission, Wireless Bureau Applications, P.O. Box 358245, Pittsburgh, PA 15251-5245.
f. Renewal (Electronic Filing) | 605 & 159 | 50.00 | PAAR* | Federal Communications Commission, Wireless Bureau Applications (ELT), P.O. Box 358994, Pittsburgh, PA 15251-5994.
g. Renewal Only (Non-Profit) | 605 & 159 | 50.00 | PAAM | Federal Communications Commission, Wireless Bureau Applications, P.O. Box 358245, Pittsburgh, PA 15251-5245.
h. Renewal (Non-Profit) (Electronic Filing) | 605 & 159 | 50.00 | PAAM | Federal Communications Commission, Wireless Bureau Applications (ELT), P.O. Box 358994, Pittsburgh, PA 15251-5994.
i. Duplicate License | 605 & 159 | 50.00 | PADM | Federal Communications Commission, Wireless Bureau Applications, P.O. Box 358130, Pittsburgh, PA 15251-5130.
j. Duplicate License (Electronic Filing) | 605 & 159 | 50.00 | PADM | Federal Communications Commission, Wireless Bureau Applications (ELT), P.O. Box 358994, Pittsburgh, PA 15251-5994.
k. Rule Waiver | 605 & 159 | 150.00 | PDWM | Federal Communications Commission, Wireless Bureau Applications, P.O. Box 358130, Pittsburgh, PA 15251-5130.
l. Rule Waiver (Electronic Filing) | 605 & 159 | 150.00 | PDWM | Federal Communications Commission, Wireless Bureau Applications (ELT), P.O. Box 358994, Pittsburgh, PA 15251-5994.
5. Private Operational Fixed Microwave
a. New; Renewal/Modification | 601 & 159 | 220.00 | PEOR* | Federal Communications Commission, Wireless Bureau Applications, P.O. Box 358130, Pittsburgh, PA 15251-5130.
b. New; Renewal/Modification (Electronic Filing) | 601 & 159 | 220.00 | PEOR * | Federal Communications Commission, Wireless Bureau Applications (ELT), P.O. Box 358994, Pittsburgh, PA 15251-5994.
c. Modification; Consolidate Call Signs; Non-Profit | 601 & 159 | 220.00 | PEOM | Federal Communications Commission, Wireless Bureau Applications P.O. Box 358130, Pittsburgh, PA 15251-5130.
d. Modification; Consolidate Call Signs; Non-Profit (Electronic Filing) | 601 & 159 | 220.00 | PEOM | Federal Communications Commission, Wireless Bureau Applications (ELT), P.O. Box 358994, Pittsburgh, PA 15251-5994.
e. Renewal Only | 601 & 159 | 220.00 | PEOR * | Federal Communications Commission, Wireless Bureau Applications, P.O. Box 358245, Pittsburgh, PA 15251-5245.
f. Renewal (Electronic Filing) | 601 & 159 | 220.00 | PEOR * | Federal Communications Commission, Wireless Bureau Applications (ELT), P.O. Box 358994, Pittsburgh, PA 15251-5994.
g. Renewal Only (Non-Profit) | 601 & 159 | 220.00 | PEOM | Federal Communications Commission, Wireless Bureau Applications, P.O. Box 358245, Pittsburgh, PA 15251-5245.
h. Renewal (Non-Profit) (Electronic Filing) | 601 & 159 | 220.00 | PEOM | Federal Communications Commission, Wireless Bureau Applications (ELT), P.O. Box 358994, Pittsburgh, PA 15251-5994.
i. Assignment | 603 & 159 | 220.00 | PEOM | Federal Communications Commission, Wireless Bureau Applications, P.O. Box 358130, Pittsburgh, PA 15251-5130.
j. Assignment (Electronic Filing) | 603 & 159 | 220.00 | PEOM | Federal Communications Commission, Wireless Bureau Applications, (ELT), P.O. Box 358994, Pittsburgh, PA 15251-5994.
k. Transfer of Control | 603 & 159 | 50.00 | PATM | Federal Communications Commission, Wireless Bureau Applications, P.O. Box 358130, Pittsburgh, PA 15251-5130.
l. Transfer of Control (Electronic Filing) | 603 & 159 | 50.00 | PATM | Federal Communications Commission, Wireless Bureau Applications (ELT), P.O. Box 358994, Pittsburgh, PA 15251-5994.
m. Duplicate License | 601 & 159 | 50.00 | PADM | Federal Communications Commission, Wireless Bureau Applications, P.O. Box 358130, Pittsburgh, PA 15251-5130.
n. Duplicate License (Electronic Filing) | 601 & 159 | 50.00 | PADM | Federal Communications Commission, Wireless Bureau Applications (ELT), P.O. Box 358994, Pittsburgh, PA 15251-5994.
o. Special Temporary Authority | 601 & 159 | 50.00 | PAOM | Federal Communications Commission, Wireless Bureau Applications, P.O. Box 358130, Pittsburgh, PA 15251-5130.
p. Special Temporary Authority (Electronic Filing) | 601 & 159 | 50.00 | PAOM | Federal Communications Commission, Wireless Bureau Applications (ELT), P.O. Box 358994, Pittsburgh, PA 15251-5994.
q. Rule Waiver | 601 & 159 | 150.00 | PDWM | Federal Communications Commission, Wireless Bureau Applications, P.O. Box 358130, Pittsburgh, PA 15251-5130.
r. Rule Waiver (Electronic Filing) | 601 & 159 | 150.00 | PDWM | Federal Communications Commission, Wireless Bureau Applications (ELT), P.O. Box 358994, Pittsburgh, PA 15251-5994.
6. Land Mobile PMRS
a. New or Renewal/Modification (Frequencies below 470 MHz (except 220 MHz) | 601 & 159 | 50.00 | PALR * | Federal Communications Commission, Wireless Bureau Applications, P.O. Box 358130, Pittsburgh, PA 15251-5130.
b. New or Renewal/Modification (Frequencies below 470 MHz) (except 220 MHz) (Electronic Filing) | 601 & 159 | 50.00 | PALR * | Federal Communications Commission, Wireless Bureau Applications (ELT), P.O. Box 358994, Pittsburgh, PA 15251-5994.
c. New or Renewal/Modification (Frequencies 470 MHz) and above and 220 MHz Local) | 601 & 159 | 50.00 | PALS * | Federal Communications Commission, Wireless Bureau Applications, P.O. Box 358130, Pittsburgh, PA 15251-5130.
d. New or Renewal/Modification (Frequencies 470 MHz) and above and 220 MHz Local) (Electronic Filing) | 601 & 159 | 50.00 | PALS * | Federal Communications Commission, Wireless Bureau Applications (ELT), P.O. Box 358994, Pittsburgh, PA 15251-5994.
e. New or Renewal/Modification (220 MHz Nationwide) | 601 & 159 | 50.00 | PALT * | Federal Communications Commission, Wireless Bureau Applications, P.O. Box 358130, Pittsburgh, PA 15251-5130.
f. New or Renewal/Modification (220 MHz Nationwide) (Electronic Filing) | 601 & 159 | 50.00 | PALT * | Federal Communications Commission, Wireless Bureau Applications (ELT), P.O. Box 358994, Pittsburgh, PA 15251-5994.
g. Modification; Non-Profit; For Profit Special Emergency and Public Safety; and CMRS | 601 & 159 | 50.00 | PALM | Federal Communications Commission, Wireless Bureau Applications, P.O. Box 358130, Pittsburgh, PA 15251-5130.
h. Modification; Non-Profit; For Profit Special Emergency and Public Safety; and CMRS (Electronic Filing) | 601 & 159 | 50.00 | PALM | Federal Communications Commission, Wireless Bureau Applications (ELT), P.O. Box 358994, Pittsburgh, PA 15251-5994.
i. Renewal Only | 601 & 159 | 50.00 50.00 50.00 | PALR * PALS * PALT * | Federal Communications Commission, Wireless Bureau Applications, P.O. Box 358245, Pittsburgh, PA 15251-5245.
j. Renewal (Electronic Filing) | 601 & 159 | 50.00 50.00 50.00 | PALR * PALS * PALT * | Federal Communications Commission, Wireless Bureau Applications (ELT), P.O. Box 358994, Pittsburgh, PA 15251-5994.
k. Renewal Only (Non-Profit; CMRS; For-Profit Special Emergency and Public Safety) | 601 & 159 | 50.00 | PALM | Federal Communications Commission, Wireless Bureau Applications, P.O. Box 358245, Pittsburg, PA 15251-5245.
l. Renewal (Non-Profit; CMRS; For-Profit Special Emergency and Public Safety) (Electronic Filing) | 601 & 159 | 50.00 | PALM | Federal Communications Commission, Wireless Bureau Applications (ELT), P.O. Box 358994, Pittsburgh, PA 15251-5994.
m. Assignment of Authorization (PMRS & CMRS) | 603 & 159 | 50.00 | PALM | Federal Communications Commission, Wireless Bureau Applications, P.O. Box 358130, Pittsburg, PA 15251-5130.
n. Assignment of Authorization (PMRS & CMRS) (Electronic Filing) | 603 & 159 | 50.00 | PALM | Federal Communications Commission, Wireless Bureau Applications (ELT), P.O. Box 358994, Pittsburgh, PA 15251-5994.
o. Transfer of Control (PMRS & CMRS) | 603 & 159 | 50.00 | PATM | Federal Communications Commission, Wireless Bureau Applications, P.O. Box 358130, Pittsburgh, PA 15251-5130.
p. Transfer of Control (PMRS & CMRS) (Electronic Filing) | 603 & 159 | 50.00 | PATM | Federal Communications Commission, Wireless Bureau Applications (ELT), P.O. Box 358994, Pittsburgh, PA 15251-5994.
q. Duplicate License | 601 & 159 | 50.00 | PADM | Federal Communications Commission, Wireless Bureau Applications, P.O. Box 358130, Pittsburgh, PA 15251-5130.
r. Duplicate License (Electronic Filing) | 601 & 159 | 50.00 | PADM | Federal Communications Commission, Wireless Bureau Applications (ELT), P.O. Box 358994, Pittsburgh, PA 15251-5994.
s. Special Temporary Authority | 601 & 159 | 50.00 | PALM | Federal Communications Commission, Wireless Bureau Applications, P.O. Box 358130, Pittsburgh, PA 15251-5130.
t. Special Temporary Authority (Electronic Filing) | 601 & 159 | 50.00 | PALM | Federal Communications Commission, Wireless Bureau Applications (ELT), P.O. Box 358994, Pittsburgh, PA 15251-5994.
u. Rule Waiver | 601 & 159 | 150.00 | PDWM | Federal Communications Commission, Wireless Bureau Applications, P.O. Box 358130, Pittsburgh, PA 15251-5130.
v. Rule Waiver (Electronic Filing) | 601 & 159 | 150.00 | PDWM | Federal Communications Commission, Wireless Bureau Applications (ELT), P.O. Box 358994, Pittsburgh, PA 15251-5994.
w. Consolidate Call Signs | 601 & 159 | 50.00 | PALM | Federal Communications Commission, Wireless Bureau Applications, P.O. Box 358130, Pittsburgh, PA 15251-5130.
x. Consolidate Call Signs (Electronic Filing) | 601 & 159 | 50.00 | PALM | Federal Communications Commission, Wireless Bureau Applications (ELT), P.O. Box 358994, Pittsburgh, PA 15251-5994.
7. 218-219 MHz (previously IVDS)
a. New; Renewal/Modification | 601 & 159 | 50.00 | PAIR* | Federal Communications Commission, Wireless Bureau Applications, P.O. Box 358130, Pittsburgh, PA 15251-5130.
b. New; Renewal/Modification (Electronic Filing) | 601 & 159 | 50.00 | PAIR* | Federal Communications Commission, Wireless Bureau Applications (ELT), P.O. Box 358994, Pittsburgh, PA 15251-5994.
c. Modification | 601 & 159 | 50.00 | PAIM | Federal Communications Commission, Wireless Bureau Applications, P.O. Box 358130 Pittsburgh, PA 15251-5130.
d. Modification (Electronic Filing) | 601 & 159 | 50.00 | PAIM | Federal Communications Commission, Wireless Bureau Applications (ELT), P.O. Box 358994, Pittsburgh, PA 15251-5994.
e. Renewal Only | 601 & 159 | 50.00 | PAIR* | Federal Communications Commission, Wireless Bureau Applications, P.O. Box 358245, Pittsburg, PA 15251-5245.
f. Renewal (Electronic Filing) | 601 & 159 | 50.00 | PAIR* | Federal Communications Commission, Wireless Bureau Applications (ELT), P.O. Box 358994, Pittsburgh, PA 15251-5994.
g. Assignment of Authorization | 603 & 159 | 50.00 | PAIM | Federal Communications Commission, Wireless Bureau Applications, P.O. Box 358130, Pittsburgh, PA 15251-5130.
h. Assignment of Authorization (Electronic Filing) | 603 & 159 | 50.00 | PAIM | Federal Communications Commission, Wireless Bureau Applications (ELT), P.O. Box 358994, Pittsburgh, PA 15251-5994.
i. Transfer of Control | 603 & 159 | 50.00 | PATM | Federal Communications Commission, Wireless Bureau Applications, P.O. Box 358130, Pittsburgh, PA 15251-5130.
j. Transfer of Control (Electronic Filing) | 603 & 159 | 50.00 | PATM | Federal Communication Commission, Wireless Bureau Applications (ELT), P.O. Box 358994, Pittsburgh, PA 15251-5994.
k. Duplicate License | 601 & 159 | 50.00 | PADM | Federal Communications Commission, Wireless Bureau Applications, P.O. Box 358130, Pittsburgh, PA 15251-5130.
l. Duplicate License (Electronic Filing) | 601 & 159 | 50.00 | PADM | Federal Communications Commission, Wireless Bureau Applications (ELT), P.O. Box 358994, Pittsburgh, PA 15251-5994.
m. Special Temporary Authority | 601 & 159 | 50.00 | PAIM | Federal Communications Commission, Wireless Bureau Applications, P.O. Box 358130, Pittsburgh, PA 15251-5130.
n. Special Temporary Authority (Electronic Filing) | 601 & 159 | 50.00 | PAIM | Federal Communications Commission, Wireless Bureau Applications (ELT), P.O. Box 358994, Pittsburgh, PA 15251-5994.
8. General Mobile Radio (GMRS)
a. New; Renewal/Modification | 605 & 159 | 50.00 | PAZR* | Federal Communications Commission, Wireless Bureau Applications, P.O. Box 358130, Pittsburgh, PA 15251-5130.
b. New; Renewal/Modification (Electronic Filing) | 605 & 159 | 50.00 | PAZR* | Federal Communications Commission, Wireless Bureau Applications (ELT), P.O. Box 358994, Pittsburgh, PA 15251-5994.
c. Modification | 605 & 159 | 50.00 | PAZM | Federal Communications Commission, Wireless Bureau Applications, P.O. Box 358130, Pittsburgh, PA 15251-5130.
d. Modification (Electronic Filing) | 605 & 159 | 50.00 | PAZM | Federal Communications Commission, Wireless Bureau Applications (ELT), P.O. Box 358994, Pittsburgh, PA 15251-5994.
e. Renewal Only | 605 & 159 | 50.00 | PAZR* | Federal Communications Commission, Wireless Bureau Applications, P.O. Box 358245, Pittsburgh, PA 15251-5245.
f. Renewal (Electronic Filing) | 605 & 159 | $50.00 | PAZR* | Federal Communications Commission, Wireless Bureau Applications (ELT), P.O. Box 358994, Pittsburgh, PA 15251-5994.
g. Duplicate License | 605 & 159 | 50.00 | PADM | Federal Communications Commission, Wireless Bureau Applications, P.O. Box 358130 , Pittsburgh, PA 15251-5130.
h. Duplicate License (Electronic Filing) | 605 & 159 | 50.00 | PADM | Federal Communications Commission, Wireless Bureau Applications (ELT), P.O. Box 358994, Pittsburgh, PA 15251-5994.
i. Special Temporary Authority | 605 & 159 | 50.00 | PAZM | Federal Communications Commission, Wireless Bureau Applications, P.O. Box 358130, Pittsburgh, PA 15251-5130.
j. Special Temporary Authority (Electronic Filing) | 605 & 159 | 50.00 | PAZM | Federal Communications Commission, Wireless Bureau Applications (ELT), P.O. Box 358994, Pittsburgh, PA 15251-5994.
k. Rule Waiver | 605 & 159 | 150.00 | PDWM | Federal Communications Commission, Wireless Bureau Applications, P.O. Box 358130, Pittsburgh, PA 15251-5130.
l. Rule Waiver (Electronic Filing) | 605 & 159 | 150.00 | PDWM | Federal Communications Commission, Wireless Bureau Applications (ELT), P.O. Box 358994, Pittsburgh, PA 15251-5994.
9. Restricted Radiotelephone
a. New (Lifetime Permit) New (Limited Use) | 605 & 159 605 & 159 | 50.00 | PARR | Federal Communications Commission, Wireless Bureau Applications, P.O. Box 358245, Pittsburgh, PA 15251-5245.
b. Duplicate/Replacement Permit Duplicate/Replacement Permit (Limited Use) | 605 & 159 605 & 159 | 50.00 | PADM | Federal Communications Commission, Wireless Bureau Applications, P.O. Box 358130, Pittsburgh, PA 15251-5130.
10. Commercial Radio Operator
a. Renewal Only | 605 & 159 | 50.00 | PACS | Federal Communications Commission, Wireless Bureau Applications, P.O. Box 358245, Pittsburgh, PA 15251-5245.
b. Duplicate | 605 & 159 | 50.00 | PADM | Federal Communications Commission, Wireless Bureau Applications, P.O. Box 358130, Pittsburgh, PA 15251-5130.
11. Hearing | Corres & 159 | 9,530.00 | PFHM | Federal Communications Commission, Wireless Bureau Applications, P.O. Box 358130, Pittsburgh, PA 15251-5130.
12. Common Carrier Microwave (Pt. To Pt. & Local TV Trans)
a. New; Renewal/Modification (Electronic Filing Required) | 601 & 159 | 220.00 | CJPR* | Federal Communications Commission, Wireless Bureau Applications (ELT), P.O. Box 358994, Pittsburgh, PA 15251-5994.
b. Modification; Consolidate Call Signs (Electronic Filing Required) | 601 & 159 | 220.00 | CJPM | Federal Communications Commission, Wireless Bureau Applications (ELT), P.O. Box 358994, Pittsburgh, PA 15251-5994.
c. Renewal (Electronic Filing Required) | 601 & 159 | 220.00 | CJPR* | Federal Communications Commission, Wireless Bureau Applications (ELT), P.O. Box 358994, Pittsburgh, PA 15251-5994.
d. Assignment of Authorization; Transfer of Control Additional Stations (Electronic Filing Required) | 603 & 159 | 80.00 50.00 | CCPM CAPM | Federal Communications Commission Wireless Bureau Applications (ELT), P.O. Box 358994, Pittsburgh, PA 15251-5994.
e. Duplicate License (Electronic Filing Required) | 601 & 159 | 50.00 | PADM | Federal Communications Commission, Wireless Bureau Applications (ELT), P.O. Box 358994, Pittsburgh, PA 15251-5994.
f. Extension of Construction Authority (Electronic Filing Required) | 601 & 159 | 80.00 | CCPM | Federal Construction Communications Commission, Wireless Bureau Applications (ELT), P.O. Box 358994, Pittsburgh, PA 15251-5994.
g. Special Temporary Authority | 601 & 159 | 100.00 | CEPM | Federal Communications Commission, Wireless Bureau Applications, P.O. Box 358130, Pittsburgh, PA 15251-5130.
h. Special Temporary Authority (Electronic Filing | 601 & 159 | 100.00 | CEPM | Federal Communications Commission, Wireless Bureau Applications (ELT), P.O. Box 358994, Pittsburgh, PA 15251-5994.
13. Common Carrier Microwave (DEMS)
a. New; Renewal/Modification (Electronic Filing Required) | 601 & 159 | 220.00 | CJLR* | Federal Communications Commission, Wireless Bureau Applications (ELT), P.O. Box 358994, Pittsburgh, PA 15251-5994.
b. Modification; Consolidate Call Signs (Electronic Filing Required) | 601 & 159 | 220.00 | CJLM | Federal Communications Commission, Wireless Bureau Applications (ELT), P.O. Box 358994, Pittsburgh, PA 15251-5994.
c. Renewal (Electronic Filing Required) | 601 & 159 | 220.00 | CJLR* | Federal Communications Commission, Wireless Bureau Applications (ELT), P.O. Box 358994, Pittsburgh, PA 15251-5994.
d. Assignment of Authorization; Transfer of Control Additional Stations (Electronic Filing Required) | 603 & 159 603 & 159 | 80.00 50.00 | CCLM CALM | Federal Communications Commission, Wireless Bureau Applications (ELT), P.O. Box 358994, Pittsburgh, PA 15251-5994.
e. Duplicate License (Electronic Filing Required) | 601 & 159 | 50.00 | PADM | Federal Communications Commission, Wireless Bureau Applications (ELT), P.O. Box 358994, Pittsburgh, PA 15251-5994.
f. Extension of Construction Authority (Electronic Filing Required) | 601 & 159 | 80.00 | CCLM | Federal Communications Commission, Wireless Bureau Applications (ELT), P.O. Box 358994, Pittsburgh, PA 15251-5994.
g. Special Temporary Authority | 601 & 159 | 100.00 | CELM | Federal Communications Commission, Wireless Bureau Applications (ELT), P.O. Box 358130, Pittsburgh, PA 15251-5130.
h. Special Temporary Authority (Electronic Filing) | 601 & 159 | 100.00 | CELM | Federal Communications Commission, Wireless Bureau Applications (ELT), P.O. Box 358994, Pittsburgh, PA 15251-5994.
14. Broadcast Auxiliary (Aural and TV Microwave)
a. New; Modification; Renewal/Modification | 601 & 159 | 120.00 | MEA | Federal Communications Commission, Wireless Bureau Applications (ELT), P.O. Box 358130, Pittsburgh, PA 15251-5130.
b. New; Modification; Renewal/Modification (Electronic Filing) | 601 & 159 | 120.00 | MEA | Federal Communications Commission, Wireless Bureau Applications (ELT), P.O. Box 358994, Pittsburgh, PA 15251-5994.
c. Special Temporary Authority | 601 & 159 | 145.00 | MGA | Federal Communications Commission, Wireless Bureau Applications ELT, P.O. Box 358130, Pittsburgh, PA 15251-5130.
d. Special Temporary Authority (Electronic Filing) | 601 & 159 | 145.00 | MGA | Federal Communications Commission, Wireless Bureau Applications (ELT), P.O. Box 358994, Pittsburgh, PA 15251-5994.
e. Renewal Only | 601 & 159 | 50.00 | MAA | Federal Communications Commission, Wireless Bureau Applications, P.O. Box 358245, Pittsburgh, PA 15251-5245.
f. Renewal (Electronic Filing) | 601 & 159 | 50.00 | MAA | Federal Communications Commission, Wireless Bureau Applications (ELT), P.O. Box 358994, Pittsburgh, PA 15251-5994.
15. Broadcast Auxiliary (Remote and Low Power)
a. New; Modification Renewal/Modification | 601 & 159 | 120.00 | MEA | Federal Communications Commission, Wireless Bureau Applications, P.O. Box 358130, Pittsburgh, PA 15251-5130.
b. New; Modification Renewal/Modification (Electronic Filing) | 601 & 159 | 120.00 | MEA | Federal Communications Commission, Wireless Bureau Applications (ELT), P.O. Box 358994, Pittsburgh, PA 15251-5994.
c. Renewal Only | 601 & 159 | 50.00 | MAA | Federal Communications Commission, Wireless Bureau Applications, P.O. Box 358245, Pittsburgh, PA 15251-5245.
d. Renewal (Electronic Filing) | 601 & 159 | 50.00 | MAA | Federal Communications Commission, Wireless Bureau Applications (ELT), P.O. Box 358994, Pittsburgh, PA 15251-5994.
e. Special Temporary Authority | 601 & 159 | 145.00 | MGA | Federal Communications Commission, Wireless Bureau Applications, P.O. Box 358130, Pittsburgh, PA 15251-5130.
f. Special Temporary Authority (Electronic Filing) | 601 & 159 | 145.00 | MGA | Federal Communications Commission, Wireless Bureau Applications (ELT), P.O. Box 358994, Pittsburgh, PA 15251-5994.
16. Pt 22 Paging & Radiotelephone
a. New; Major Mod; Additional Facility; Major Amendment; Major Renewal/Mod; Fill in Transmitter (Per Transmitter) (Electronic Filing Required) | 601 & 159 | 325.00 | CMD | Federal Communications Commission, Wireless Bureau Applications (ELT), P.O. Box 358994, Pittsburgh, PA 15251-5994.
b. Minor Mod; Renewal; Minor Renewal/Mod; (Per Call Sign) 900 MHz Nationwide Renewal Net Organ; New Operator (Per Operator/Per City) Notice of Completion of Construction or Extension of Time to Construct (Per Application) (Electronic Filing Required) | 601 & 159 | 50.00 | CAD | Federal Communications Commission, Wireless Bureau Applications (ELT), P.O. Box 358994, Pittsburgh, PA 15251-5994.
c. Auxiliary Test (Per Transmitter); Consolidate Call Signs (Per Call Sign) (Electronic Filing Required) | 601 & 159 | 285.00 | CLD | Federal Communications Commission, Wireless Bureau Applications (ELT), P.O. Box 358994, Pittsburgh, PA 15251-5994.
d. Special Temporary Authority (Per Location/Per Frequency) | 601 & 159 | 285.00 | CLD | Federal Communications Commission, Wireless Bureau Applications, P.O. Box 358130, Pittsburgh, PA 15251-5130.
e. Special Temporary Authority (Per Location/Per Frequency) (Electronic Filing) | 601 & 159 | 285.00 | CLD | Federal Communications Commission, Wireless Bureau Applications (ELT), P.O. Box 358994, Pittsburgh, PA 15251-5994.
f. Assignment of License or Transfer of Control (Full or Partial) (Per Call Sign) | 603 & 159 | 325.00 | CMD | Federal Communications Commission, Wireless Bureau Applications (ELT), P.O. Box 358994, Pittsburgh, PA 15251-5994.
Additional Call Signs (Per Call Signs) (Electronic Filing Required) | 603 & 159 | 50.00 | CAD
g. Subsidiary Comm Service (Per Request) (Electronic Filing Required) | 601 & 159 | 145.00 | CFD | Federal Communications Commission, Wireless Bureau Applications (ELT), P.O. Box 358994, Pittsburgh, PA 15251-5994.
h. Air Ground Individual (Initial License; Mod; Renewal (Per Station) | 409 & 159 | 50.00 | CAD | Federal Communications Commission, Wireless Bureau Applications (ELT), P.O. Box 358994, Pittsburgh, PA 15251-5994.
17. Cellular
a. New; Major Mod; Additional Facility; Major Renewal/Mod (Electronic Filing Required) | 601 & 159 | 325.00 | CMC | Federal Communications Commission, Wireless Bureau Applications (ELT), P.O. Box 358994, Pittsburgh, PA 15251-5994.
b. Minor Modification; Minor Renewal/Mod (Electronic Filing Required) | 601 & 159 | 85.00 | CDC | Federal Communications Commission, Wireless Bureau Applications (ELT), P.O. Box 358994, Pittsburgh, PA 15251-5994.
c. Assignment of License or Transfer of Control (Full or Partial) (Electronic Filing Required) | 603 & 159 | 325.00 | CMC | Federal Communications Commission, Wireless Bureau Applications (ELT), P.O. Box 358994, Pittsburgh, PA 15251-5994.
d. Notice of Extension of Time to Complete Construction; Renewal (Electronic Filing Required) | 601 & 159 | 50.00 | CAC | Federal Communications Commission, Wireless Bureau Applications (ELT), P.O. Box 358994, Pittsburgh, PA 15251-5994
e. Special Temporary Authority | 601 & 159 | 285.00 | CLC | Federal Communications Commission, Wireless Bureau Applications, P.O. Box 358130, Pittsburgh, PA 15251-5130
f. Special Temporary Authority (Electronic Filing) | 601 & 159 | 285.00 | CLC | Federal Communications Commission, Wireless Bureau Applications (ELT), P.O. Box 358994, Pittsburgh, PA 15251-5994
g. Combining Cellular Geographic Areas (Electronic Filing Required) | 601 & 159 | 75.00 | CBC | Federal Communications Commission, Wireless Bureau Applications (ELT), P.O. Box 358994, Pittsburgh, PA 15251-5994
18. Rural Radio
a. New; Major Renew/Mod; Additional Facility (Per Transmitter) (Electronic Filing Required) | 601 & 159 | 150.00 | CGRR* | Federal Communications Commission, Wireless Bureau Applications (ELT), P.O. Box 358994, Pittsburgh, PA 15251-5994
b. Major Mod; Major Amendment (Per Transmitter) (Electronic Filing Required) | 601 & 159 | 150.00 | CGRM | Federal Communications Commission, Wireless Bureau Applications (ELT), P.O. Box 358994, Pittsburgh, PA 15251-5994
c. Minor Modification; (Per Transmitter) (Electronic Filing Required) | 601 & 159 | 50.00 | CARM | Federal Communications Commission, Wireless Bureau Applications (ELT), P.O. Box 358994, Pittsburgh, PA 15251-5994
d. Assignment of License or Transfer of Control (Full or Partial) (Per Call Sign); Additional Calls (Per Call Sign) (Electronic Filing Required) | 603 & 159 603 & 159 | 150.00 50.00 | CGRM CARM | Federal Communications Commission, Wireless Bureau Applications (ELT), P.O. Box 358994, Pittsburgh, PA 15251-5994
e. Renewal (Per Call Sign); Minor Renewal/Mod (Per Transmitter) (Electronic Filing Required) | 601 & 159 | 50.00 | CARR* | Federal Communications Commission, Wireless Bureau Applications (ELT), P.O. Box 358994, Pittsburgh, PA 15251-5994
f. Notice of Completion of Construction or Extension of Time to Construct (Per Application) (Electronic Filing Required) | 601 & 159 | 50.00 | CARM | Federal Communications Commission, Wireless Bureau Applications (ELT), P.O. Box 358994, Pittsburgh, PA 15251-5994
g. Special Temporary Authority (Per Transmitter) | 601 & 159 | 285.00 | CLRM | Federal Communications Commission, Wireless Bureau Applications (ELT), P.O. Box 358994, Pittsburgh, PA 15251-5994
h. Special Temporary Authority (Per Transmitter) (Electronic Filing Required) | 601 & 159 | 285.00 | CLRM | Federal Communications Commission, Wireless Bureau Applications (ELT), P.O. Box 358994, Pittsburgh, PA 15251-5994
i. Combining Call Signs (Per Call Sign) (Electronic Filing Required) | 601 & 159 | 285.00 | CLRM | Federal Communications Commission, Wireless Bureau Applications (ELT), P.O. Box 358994, Pittsburgh, PA 15251-5994
j. Auxiliary Test Station (Per Transmitter) (Electronic Filing Required) | 601 & 159 | 285.00 | CLRM | Federal Communications Commission, Wireless Bureau Applications (ELT), P.O. Box 358994, Pittsburgh, PA 15251-5994
19. Offshore Radio
a. New; Major Mod; Additional Facility; Major Amendment; Major Renew/Mod; Fill in Transmitters (Per Transmitter) (Electronic Filing Required) | 601 & 159 | 150.00 | GGF | Federal Communications Commission, Wireless Bureau Applications (ELT), P.O. Box 358994, Pittsburgh, PA 15251-5994.
b. Consolidate Call Signs (Per Call Sign); Auxiliary Test (Per Transmitter) (Electronic Filing Required) | 601 & 159 | 285.00 | CLF | Federal Communications Commission, Wireless Bureau Applications (ELT), P.O. Box 358994, Pittsburgh, PA 15251-5994.
c. Minor Modification; (Per Transmitter); Notice of Completion of Construction or Extension of Time to Construct (Per Application); Renewal (Per Call Sign) (Electronic Filing Required) | 601 & 159 | 50.00 | CAF | Federal Communications Commission, Wireless Bureau Applications (ELT), P.O. Box 358994, Pittsburgh, PA 15251-5994.
d. Assignment of License or Transfer of Control (Full or Partial) Additional Calls (Electronic Filing Required) | 603 & 159 | 150.00 | CGF | Federal Communications Commission, Wireless Bureau Applications (ELT), P.O. Box 358994, Pittsburgh, PA 15251-5994.
e. Special Temporary Authority (Per Transmitter) | 601 & 159 | 285.00 | CLF | Federal Communications Commission, Wireless Bureau Applications, P.O. Box 358130, Pittsburgh, PA 15251-5130.
f. Special Temporary Authority (Per Transmitter) (Electronic Filing Required) | 601 & 159 | 285.00 | CLF | Federal Communications Commission, Wireless Bureau Applications (ELT), P.O. Box 358994, Pittsburgh, PA 15251-5994.
20. Multipoint Distribution Service (including Multi-channel MDS)
a. Conditional License | 304 & 159 or 331 & 159 | 220.00 | CJM | Federal Communications Commission, Wireless Bureau Applications, P.O. Box 358155, Pittsburgh, PA 15251-5155.
b. Major Modification of Conditional Licenses or License Authorization | 304 & 159 or 331 &159 | 220.00 | CJM | Federal Communications Commission, Wireless Bureau Applications, P.O. Box 358994, Pittsburgh, PA 15251-5155.
c. Certification of Completion of Construction | 304-A & 159 | 645.00 | CPM* | Federal Communications Commission, Wireless Bureau Applications, P.O. Box 358155, Pittsburgh, PA 15251-5155.
d. License Renewal | 405 & 159 | 220.00 | CJM | Federal Communications Commission, Wireless Bureau Applications, P.O. Box 358155, Pittsburgh, PA 15251-5155.
e. Assignment or Transfer:
(i) First Station on Application | 702 & 159 or 704 & 159 | 80.00 | CCM | Federal Communications Commission, Wireless Bureau Applications, P.O. Box 358155, Pittsburgh, PA 15251-5155.
(ii) Each Additional Station | 702 & 159 or 704 & 159 | 50.00 | CAM
f. Extension of Construction Authorization | 701 & 159 | 185.00 | CHM | Federal Communications Commission, Wireless Bureau Applications, P.O. Box 358155, Pittsburgh, PA 15251-5155.
g. Special Temporary Authority or Request for Waiver of Prior Construction Authorization | Corres & 159 | 100.00 | CEM | Federal Communications Commission, Wireless Bureau Applications, P.O. Box 358155, Pittsburgh, PA 15251-5155.
h. Signal Booster
(i) Application | 304 & 159, 331 & 159 | 75.00 | CSB | Federal Communications Commission, Wireless Bureau Applications, P.O. Box 358155, Pittsburgh, PA 15251-5155.
(ii) Certification of Completion of Construction (Electronic Filing Only) | 304A & 159 | 80.00 | CCB | Federal Communications Commission, Wireless Bureau Applications, P.O. Box 358155, Pittsburgh, PA 15251-5155.

3. Section 1.1103 is revised to read as follows:

§ 1.1103 Schedule of charges for equipment approval, experimental radio services, and international telecommunications settlement services.

Action | FCC Form No. | Fee amount | Payment type code | Address
1. Certification
a. Receivers (except TV and FM) (Electronic Filing Only) | 731 & 159 | 405.00 | EEC | Federal Communications Commission, Equipment Approval Services, P.O. Box 358315, Pittsburgh, PA 15251-5315.
b. Devices Under Parts 11, 15 & 18 (except receivers) (Electronic Filing Only) | 731 & 159 | 525.00 | EFT | Federal Communications Commission, Equipment Approval Services, P.O. Box 358315, Pittsburgh, PA 15251-5315.
c. All Other Devices (Electronic Filing Only) | 731 & 159 | 525.00 | EFT | Federal Communications Commission, Equipment Approval Services, P.O. Box 358315, Pittsburgh, PA 15251-5315.
d. Modifications and Class II Permissive Changes (Electronic Filing Only) | 731 & 159 | 50.00 | EAC | Federal Communications Commission, Equipment Approval Services, P.O. Box 358315, Pittsburgh, PA 15251-5315.
e. Modification and Class III Permissive Change (Electronic Filing Only) | 731 & 159 | 495.00 | ECC | Federal Communications Commission, Equipment Approval Services, P.O. Box 358315, Pittsburgh, PA 15251-5315.
f. Request for Confidentiality (Electronic Filing Only) | 731 & 159 | 150.00 | EBC | Federal Communications Commission, Equipment Approval Services, P.O. Box 358315, Pittsburgh, PA 15251-5315.
2. Advance approval of Subscription TV Systems | Corres & 159 | 3,180.00 | EIS | Federal Communications Commission, Equipment Approval Services, P.O. Box 358315, Pittsburgh, PA 15251-5315.
a. Request for Confidentiality (Electronic Filing Only) | Corres & 159 | 150.00 | EBS | Federal Communications Commission, Equipment Approval Services, P.O. Box 358315, Pittsburgh, PA 15251-5315.
3. Assignment of Grantee Code
a. New Applicants for all Application Types, except Subscription TV (Electronic Filing Only Optional) | Corres & 159 | 50.00 | EAG | Federal Communications Commission, Equipment Approval Services, P.O. Box 358315, Pittsburgh, PA 15251-5315.
4. Experimental Radio Service
a. New Station Authorization | 442 & 159 | 50.00 | EAE | Federal Communications Commission, Equipment Radio Services, P.O. Box 358320, Pittsburg, PA 15251-5320.
b. Modification of Authorization | 442 & 159 | 50.00 | EAE | Federal Communications Commission, Equipment Radio Services, P.O. Box 358320, Pittsburg, PA 15251-5320.
c. Renewal of Station Authorization | 442 & 159 | 50.00 | EAE | Federal Communications Commission, Equipment Radio Services, P.O. Box 358320, Pittsburg, PA 15251-5320.
d. Assignment of Transfer of Control | 702 & 159 or 703 & 159 | 50.00 | EAE | Federal Communications Commission, Equipment Radio Services, P.O. Box 358320, Pittsburg, PA 15251-5320.
e. Special Temporary Authority | Corres & 159 | 50.00 | EAE | Federal Communications Commission, Equipment Radio Services, P.O. Box 358320, Pittsburg, PA 15251-5320.
f. Additional fee required for any of the above applications that request withholding from public inspection | Corres & 159 | 50.00 | EAE | Federal Communications Commission, Equipment Radio Services, P.O. Box 358320, Pittsburg, PA 15251-5320.
5. International Telecommunications | 99 & 159 | 2.00 | IAT | Federal Communications Commission, International Telecommunications Settlements, P.O. Box 358001, Pittsburg, PA 15251-5001.

4. Section 1.1104 is revised to read as follows:

§ 1.1104 Schedule of charges for applications and other filings for media services.

Those services designated with an asterisk in the Payment Type Code column accept multiples if filing in the same post office box.

Action | FCC Form No. | Fee Amount | Payment type code | Address
1. Commercial TV Services
a. New and Major Change Construction Permits (per application) (Electronic Filing) | 301 & 159; 301-CA & 159 | $3,575.00 | MVT | Federal Communications Commission, Media Services, P.O. Box 358165, Pittsburgh, PA 15251-5165.
b. Minor Change (per application) (Electronic Filing) | 301 & 159; 301-CA & 159 | 800.00 | MPT | Federal Communications Commission, Media Services, P.O. Box 358165, Pittsburgh, PA 15251-5165.
c. Main Studio Request | Corres & 159 | 800.00 | MPT | Federal Communications Commission, Media Services, P.O. Box 358165, Pittsburgh, PA 15251-5165.
d. New License (per application) | 302-TV & 159; 301-CA & 159; 302-DTV & 159 | 240.00 | MJT | Federal Communications Commission, Media Services, P.O. Box 358165, Pittsburgh, PA 15251-5165.
e. License Renewal (per application) | 303-S & 159 | 145.00 | MGT | Federal Communications Commission, Media Services, P.O. Box 358165, Pittsburgh, PA 15251-5165.
f. License Assignment:
(i) Long Form (Electronic Filing) | 314 & 159 | 800.00 | MPT* | Federal Communications Commission, Media Services, P.O. Box 358350, Pittsburgh, PA 15251-5350.
(ii) Short Form (Electronic Filing) | 316 & 159 | 115.00 | MDT* | Federal Communications Commission, Media Services, P.O. Box 358350, Pittsburgh, PA 15251-5350.
g. Transfer of Control:
(i) Long Form (Electronic Filing) | 315 & 159 | 800.00 | MPT* | Federal Communications Commission, Media Services, P.O. Box 358350, Pittsburgh, PA 15251-5350.
(ii) Short Form (Electronic Filing) | 316 & 159 | 115.00 | MDT* | Federal Communications Commission, Media Services, P.O. Box 358350, Pittsburgh, PA 15251-5350.
h. Hearing (New and Major/Minor Change, Comparative Construction Permit) | Corres & 159 | 9,530.00 | MWT | Federal Communications Commission, Media Services, P.O. Box 358170, Pittsburgh, PA 15251-5370.
i. Call Sign (Electronic Filing) | 380 & 159 | 80.00 | MBT | Federal Communications Commission, Media Services, P.O. Box 358165, Pittsburgh, PA 15251-5165.
j. Special Temporary Authority | Corres & 159 | 145.00 | MGT | Federal Communications Commission, Media Services, P.O. Box 358165, Pittsburgh, PA 15251-5165.
k. Petition for Rulemaking for New Community of License | 301 & 159; 302-TV & 159 | 2,210.00 | MRT | Federal Communications Commission, Media Services, P.O. Box 358165, Pittsburgh, PA 15251-5165.
l. Ownership Report | 323 & 159 Corres & 159 | 50.00 | MAT | Federal Communications Commission, Media Services, P.O. Box 358180, Pittsburgh, PA 15251-5180.
2. Commercial AM Radio Stations
a. New or Major Change Construction Permit (Electronic Filing) | 301 & 159 | 3,180.00 | MUR | Federal Communications Commission, Media Services, P.O. Box 358190, Pittsburgh, PA 15251-5190.
b. Minor Change (per application) (Electronic Filing) | 301 & 159 | 800.00 | MPR | Federal Communications Commission, Media Services, P.O. Box 358190, Pittsburgh, PA 15251-5190.
c. Main Studio Request (per request) | Corres & 159 | 800.00 | MPR | Federal Communications Commission, Media Services, P.O. Box 358190, Pittsburgh, PA 15251-5190.
d. New License (per application) | 302-AM & 159 | 525.00 | MMR | Federal Communications Commission, Media Services, P.O. Box 358190, Pittsburgh, PA 15251-5190.
e. AM Directional Antenna (per application) | 302-AM & 159 | 600 | MOR | Federal Communications Commission, Media Services, P.O. Box 358190, Pittsburgh, PA 15251-5190.
f. AM Remote Control (per applicaiton) (Electronic filing) | 301 & 159 | 50.00 | MAR | Federal Communications Commission, Media Services, P.O. Box 358190, Pittsburgh, PA 15251-5190.
g. License Renewal (per application) | 303-S & 159 | 145.00 | MGR | Federal Communications Commission, Media Services, P.O. Box 358190, Pittsburgh, PA 15251-5190.
h. License Assignment:
(i) Long Form (Electronic Filing) | 314 & 159 | 800.00 | MPR* | Federal Communications Commission, Media Services, P.O. Box 358350, Pittsburgh, PA 15251-5350.
(ii) Short Form (Electronic Filing) | 316 & 159 | 115.00 | MDR* | Federal Communications Commission, Media Services, P.O. Box 358350, Pittsburgh, PA 15251-5350.
i. Transfer of Control:
(i) Long Form (Electronic Filing) | 315 & 159 | 800.00 | MPR* | Federal Communications Commission, Media Services, P.O. Box 358350, Pittsburgh, PA 15251-5350.
(ii) Short Form (Electronic Filing) | 316 & 159 | $115.00 | MDR* | Federal Communications Commission, Media Services, P.O. Box *358350, Pittsburgh, PA 15251-5350.
j. Hearing (New or Major/Minor Change, Comparative Construction Permit Hearings) | Corres & 159 | 9,530.00 | MWR | Federal Communciations Commission, Media Services, P.O. Box 358170, Pittsburgh, PA 15251-5170.
k. Call Sign (Electronic Filing) | 380 & 159 | 80.00 | MBR | Federal Communications Commission, Media Services, P.O. Box 358165, Pittsburgh, PA 15251-5165.
l. Special Temporary Authority | Corres & 159 | 145.00 | MGR | Federal Communications Commission, Media Services, P.O. Box 358190, Pittsburgh, PA 15251-5190.
m. Ownership Report | 323 & 159 or Corres & 159 | 50.00 | MAR | Federal Communications Commission, Media Services, P.O. Box 358180, Pittsburgh, PA 15251-5180.
3. Commercial FM Radio Station
a. New or Major Change Construction Permit (Electronic Filing) | 301 & 159 | 2,865.00 | MTR | Federal Communications Commission, Media Services, P.O. Box 358195, Pittsburgh, PA 15251-5195.
b. Minor Change (Electronic Filing) | 301 & 159 | 800.00 | MPR | Federal Communications Commission, Mass Media Services, P.O. Box 358195, Pittsburgh, PA 15251-5195.
c. Main Studio Request (per request) | Corres & 159 | 800.00 | MPR | Federal Communications Commission, Media Services, P.O. Box 358195, Pittsburgh, PA 15251-5195.
d. New License (Electronic Filing) | 302-FM & 159 | 165.00 | MHR | Federal Communications Commission, Media Services, P.O. Box 358195, Pittsburgh, PA 15251-5195.
e. FM Directional Antenna (Electronic Filing) | 302-FM & 159 | 505.00 | MLR | Federal Communications Commission, Media Services, P.O. Box 358195, Pittsburgh, PA 15251-5195.
f. License Renewal | 303-S & 159 | 145.00 | MGR | Federal Communications Commission, Media Services, P.O. Box 358190, Pittsburgh, PA 15251-5190.
g. License Assignment:
Long Form (Electronic Filing) | 314 & 159 | 800.00 | MPR* | Federal Communications Commission, Media Services, P.O. Box 358350, Filing) Pittsburgh, PA 15251-5350.
(i) Short Form (Electronic Filing) | 316 & 159 | 115.00 | MDR* | Federal Communications Commission, Media Sservices, P.O. Box 358350, Pittsburgh, PA 15251-5350.
h. Transfer of Control:
(i) Long Form (Electronic Filing) | 315 & 159 | 800.00 | MPR* | Federal Communications Commission, Media Services, P.O. Box 358350, Filing) Pittsburgh, PA 15251-5350.
(ii) Short Form (Electronic Filing) | 316 & 159 | 115.00 | MDR* | Federal Communications Commission, Media Services, P.O. Box 358350, Pittsburgh, PA 15251-5350.
i. Hearing (New or Major/Minor Change, Comparative Construction Permit Heraings) (per application) | Corres & 159 | 9,530.00 | MWR | Federal Communications Commission, Medida Service, P.O. Box 358170, Pittsburgh, PA 15251-5170.
j. Call Sign (Electronic Filing) | 380 & 159 | 80.00 | MBR | Federal Communications Commission, Media Services, P.O. Box 358165, Pittsburgh, PA 15251-5165.
k. Special Temporary Authority | Corres & 159 | 145.00 | MGR | Federal Communications Commission, Media Services, P.O. Box 358195, Pittsburgh, PA 15251-5195.
l. Petition for New Community of LIcense or Higher Class Channel | 301 & 159 or 302-FM & 159 | 2,210.00 | MRR | Federal Communications Commission, Media Services, P.O. Box 358195, Pittsburgh, PA 15251-5195.
m. Ownership Report | 323 & 159 or Corres & 159 | 50.00 | MAR | Federal Communications Commission, Media Services, P.O. Box 358180, Pittsburgh, PA 15251-5180.
4. FM Translators
a. New or Major Change Construction Permit (Electronic Filing) | 349 & 159 | 600.00 | MOF | Federal Communications Commission, Media Services, P.O. Box 358190, Pittsburgh, PA 15251-5200.
b. New License (Electronic Filing) | 350 & 159 | 120.00 | MEF | Federal Communications Commission, Media Services, P.O. Box 358200, Pittsburgh, PA 15251-5200.
c. License Renewal | 303-S & 159 | 50.00 | MAF | Federal Communications Commission, Media Services, P.O. Box 358190, Pittsburgh, PA 15251-5190.
d. Special Temporary Authority | Corres & 159 | 145.00 | MGF | Federal Communications Commission, Media Services, P.O. Box 358200, Pittsburgh, PA 15251-5190.
e. License Assignment | 345 & 159; 314 & 159; 316 & 159 | 115.00 | MDF* | Federal Communications Commission, Media Services, P.O. Box 358350, Pittsburgh, PA 15251-5350.
f. Transfer of Control | 345 & 159; 314 & 159; 316 & 159 | 115.00 | MDF* | Federal Communications Commission, Media Services, P.O. Box 358350, Pittsburgh, PA 15251-5350.
5. TV Translators and LPTV Stations
a. New or Major Change Construction Permit (per application) (Electronic Filing) | 346 & 159 | 600.00 | MOL | Federal Communications Commission, Media Services, P.O. Box 358185, Pittsburgh, PA 15251-5185.
b. New License (per application) | 347 & 159 | 120.00 | MEL | Federal Communications Commission, Media Services, P.O. Box 358185, Pittsburgh, PA 15251-5185.
c. License Renewal | 303-S & 159 | 50.00 | MAL* | Federal Communications Commission, Media Services, P.O. Box 358165, Pittsburgh, PA 15251-5165.
d. Special Temporary Authority | Corres & 159 | 145.00 | MGL | Federal Communications Commission, Media Services, P.O. Box 358185, Pittsburgh, PA 15251-5185.
e. License Assignment | 345 & 159; 314 & 159; 316 & 159; | 115.00 | MDL* | Federal Communications Commission, Media Services, P.O. Box 358350, Pittsburgh, PA 15251-5350.
f. Transfer of Control | 345 & 159; 314 & 159; 316 & 159; | 115.00 | MDL* | Federal Communications Commission, Media Services, P.O. Box 358350, Pittsburgh, PA 15251-5350.
6. FM Booster Stations
a. New or Major Change Construction Permit (Electronic Filing) | 349 &159 | 600.00 | MOF | Federal Communications Commission, Media Services, P.O. Box 358200, Pittsburgh, PA 15251-5200.
b. New License (Electronic Filing) | 350 & 159 | 120.00 | MEF | Federal Communications Commission, Media Services, P.O. Box 358200, Pittsburgh, PA 15251-5200.
c. Special Temporary Authority | Corres & 159 | 145.00 | MGF | Federal Communications Commission, Media Services, P.O. Box 358200, Pittsburgh, PA 15251-5200.
7. TV Booster Stations
a. New or Major Change (Electronic Filing) | 346 & 159 | 600.00 | MOF | Federal Communications Commission, Media Services, P.O. Box 358185, Pittsburgh, PA 15251-5185.
b. New License (Electronic Filing) | 347 & 159 | 120.00 | MEF | Federal Communications Commission, Media Services, P.O. Box 358185, Pittsburgh, PA 15251-5185.
c. Special Temporary Authority | Corres & 159 | 145.00 | MGF | Federal Communications Commission, Media Services, P.O. Box 358185, Pittsburgh, PA 15251-5185.
8. Cable Television Services
a. CARS License | 327 & 159 | 220.00 | TIC | Federal Communications Commission, Media Services, P.O. Box 358205, Pittsburgh, PA 15215-5205.
b. CARS Modifications | 327 & 159 | 220.00 | TIC | Federal Communications Commission, Media Services, P.O. Box 358205, Pittsburgh, PA 15215-5205.
c. CARS License Renewal | 327 & 159 | 220.00 | TIC | Federal Communications Commission, Media Services, P.O. Box 358205, Pittsburgh, PA 15215-5205.
d. CARS License Assignment | 327 & 159 | 220.00 | TIC | Federal Communications Commission, Media Services, P.O. Box 358205, Pittsburgh, PA 15215-5205.
e. CARS Transfer of Control | 327 & 159 | 220.00 | TIC | Federal Communications Commission, Media Services, P.O. Box 358205, Pittsburgh, PA 15215-5205.
f. Special Temporary Authorization | Corres & 159 | 145.00 | TGC | Federal Communications Commission, Media Services, P.O. Box 358205, Pittsburgh, PA 15215-5205.
g. Cable Special Relief Petition | Corres & 159 | 1,115.00 | TQC | Federal Communications Commission, Media Services, P.O. Box 358205, Pittsburgh, PA 15215-5205.
h. 76.1801 Registration Statement | Corres & 159 | 50.00 | TAC | Federal Communications Commission, Media Services, P.O. Box 358205, Pittsburgh, PA 15215-5205.
i. Aeronautical Frequency Usage Notification Sec. 76.1804 | Corres & 159 | 50.00 | TAC | Federal Communications Commission, Media Services, P.O. Box 358205, Pittsburgh, PA 15215-5205.

5. Section 1.1105 is revised to read as follows:

§ 1.1105 Schedule of charges for applications and other filings for the wireline competition service.

Action | FCC Form No. | Fee amount | Payment type code | Address
1. Communication Assistance for Law Enforcement (CALEA) Petitions | Corres & 159 | $5,000.00 | CLEA | Federal Communications Commission, Wireline Competition Services—IA&TD CALEA, P.O. Box 358140, Pittsburgh, PA 15251-5140.
2. Domestic 214 Applicataions
a. Domestic Cable Construction | Corres & 159 | 860.00 | CUT | Federal Communications Commission Wireline Competition Services—CPD214 Appls., P.O. Box 358145, Pittsburgh, PA 15251-5145.
b. Other | Corres & 159 | 860.00 | CUT | Federal Communications Commission, Wireline Competition Services CPD214—Appls., P.O. Box 358145, Pittsburgh, PA 15251-5145.
3. Tariff Filings
a. Filing Fees (per transmittal or cover letter) | Corres & 159 | 695.00 | CQK | Federal Communications Commission, Wireline Competition Services—PPD Tariffs, P.O. Box 358150, Pittsburgh, PA 15251-5150.
b. Special Permission Filing (request for waiver of any rule in Part 61 of the Commission's Rules (per request)) | Corres &159 | 695.00 | CQK | Federal Communications Commission, Wireline Competition Services—PPD Tariffs, P.O. Box 358150, Pittsburgh, PA 15251-5150.
c. Waiver of Part 69 Tariff Rules (per request) | Corres & 159 | 695.00 | CQK | Federal Communications Commission, Wireline Competition Services—PPD Tariffs, P.O. Box 358150, Pittsburgh, PA 15251-5150.
4. Accounting
a. Review of Depreciation Update Study:
(i) Single state | Corres & 159 | 29,150.00 | BKA | Federal Communications Commission, Wireline Competition Services—PPD—Accounting Rule, P.O. Box 358140, Pittsburgh, PA 15251-5140.
(ii) Each Additional State | Corres & 159 | 960.00 | CVA | Federal Communications Commission, Wireline Competition Services—PPD—Accounting Rule, P.O. Box 358125, Pittsburgh, PA 15251-5125.
b. Petition for Waiver (per petition) Waiver of Part 69 Accounting Rules & Part 32 Accounting Rules Part 36 Separation Rules, Part 43 Reporting Requirements Part 64 Allocation of Costs Rules Part 65 Rate of Return & Rate Base Rules | Corres & 159 | 6,570.00 | BEA | Federal Communications Commission, Wireline Competition Services—PPD Tariffs, P.O. Box 358140, Pittsburgh, PA 15251-5140.

6. Section 1.1106 is revised to read as follows:

§ 1.1106 Schedule of charges for applications and other filings for the enforcement services.

Action | FCC Form No. | Fee amount | Payment type code | Address
1. Formal Complaints | Corres & 159 | $170.00 | CIZ | Federal Communications Commission, Enforcement, P.O. Box 358120, Pittsburgh, PA 15251-5120.
2. Accounting and Audits
a. Field Audit | Corres & 159 | 87,780.00 | BMA | Carriers will be billed.
b. Review of Arrest Audit | Corres & 159 | 47,915.00 | BLA | Carriers will be billed.
3. Development and Review of Agreed upon —Procedures Engagement | Corres & 159 | 47,915.00 | BLA | Federal Communications Commission, Enforcement, P.O. Box 358125, Pittsburgh, PA 15251-5140.
4. Pole Attachment Complaint | Corres & 159 | 215.00 | TPC | Federal Communications Commission, Enforcement, P.O. Box 358110, Pittsburgh, PA 15215-5110.

7. Section 1.1107 is revised to read as follows:

§ 1.1107 Schedule of charges for applications and other filings for the international service.

Action | FCC Form No. | Fee amount | Payment type code | Address
1. International Fixed Public Radio (Public & Control Stations)
a. Initial Construction Permit (per station) | 407 & 159 | $685.00 | CSN | Federal Communications Commission, International Bureau—Fixed Public Radio, P.O. Box 358160, Pittsburgh, PA 15251-5160.
b. Assignment or Transfer (per Application) | 702 & 159 or 704 & 159 | 720.00 | CSN | Federal Communications Commission, International Bureau—Fixed Public Radio, P.O. Box 358160 Pittsburgh, PA 15251-5160.
c. Renewal (per license) | 405 & 159 | 525.00 | CON | Federal Communications Commission, International Bureau—Fixed Public Radio, P.O. Box 358160, Pittsburgh, PA 15251-5160.
d. Modification (per station) | 403 & 159 | 525.00 | CON | Federal Communications Commission, International Bureau—Fixed Public Radio, P.O. Box 358160, Pittsburgh, PA 15251-5160.
e. Extension of Construction Authorization (per station) | 701 & 159 | 265.00 | CKN | Federal Communications Commission, International Bureau—Fixed Public Radio, P.O. Box 358160, Pittsburgh, PA 15251-5160.
f. Special Temporary Authority or request for Waiver (per request) | Corres & 159 | 265.00 | CKN | Federal Communications Commission, International Bureau—Fixed Public Radio, P.O. Box 358160, Pittsburgh, PA 15251-5160.
2. Section 214 Applications
a. Overseas Cable Construction | Corres & 159 | 12,860.00 | BIT | Federal Communications Commission, International Bureau—Telecommunications, P.O. Box 358115, Pittsburgh, PA 15251-5115.
b. Cable Landing License:
(i) Common Carrier | Corres & 159 | 1,445.00 | CXT | Federal Communications Commission, International Bureau—Telecommunications, P.O. Box 358115, Pittsburgh, PA 15251-5115.
(ii) Non—Common Carrier | Corres & 159 | 14,305.00 | BJT | Federal Communications Commission, International Bureau—Telecommunications, P.O. Box 358115, Pittsburgh, PA 15251-5115.
c. All other International 214 Applications | Corres & 159 | 860.00 | CUT | Federal Communications Commission, International Bureau—Telecommunications, P.O. Box 358115, Pittsburgh, PA 15251-5115.
d. Special Temporary Authority (all services) | Corres & 159 | 860.00 | CUT | Federal Communications Commission, International Bureau—Telecommunications, P.O. Box 358115, Pittsburgh, PA 15251-5115.
e. Assignments or transfers (all services) | Corres & 159 | 860.00 | CUT | Federal Communications Commission, International Bureau—Telecommunications, P.O. Box 358115, Pittsburgh, PA 15251-5115.
3. Fixed Satellite Transmit/Receive Earth Stations
a. Initial Application (per station) | 312 & Schedule B & 159 | 2,150.00 | BAX | Federal Communications Commission, International Bureau—Earth Stations P.O. Box 358160, Pittsburgh, PA 15251-5160.
b. Modification of License (per station) | 312 & Schedule B & 159 | 150.00 | CGX | Federal Communications Commission, International Bureau—Earth Stations P.O. Box 358160, Pittsburgh, PA 15251-5160.
c. Assignment or Transfer:
(i) First station | 312 & Schedule A & 159 | 425.00 | CNX | Federal Communications Commission, International Bureau—Earth Stations, P.O. Box 358160, Pittsburgh, PA 15251-5160.
(ii) Each Additional Station | Schedule A & 159 | 145.00 | CFX | Federal Communications Commission, International Bureau—Earth Stations, P.O. Box 358160, Pittsburgh, PA 15251-5160.
d. Renewal of License (per station) | 405 & 159 | 150.00 | CGX | Federal Communications Commission, International Bureau—Earth Stations, P.O. Box 358160, Pittsburgh, PA 15251-5160.
e. Special Temporary Authority or Waiver of Prior Construction Authorization (per request) | Corres & 159 | 150.00 | CGX | Federal Communications Commission, International Bureau—Earth Stations, P.O. Box 358160, Pittsburgh, PA 15251-5160.
f. Amendment of Pending Application (per station) | 312 & Schedule B & 159 | 150.00 | CGX | Federal Communications Commission, Application International Bureau— Earth Stations, P.O. Box 358160, Pittsburgh, PA 15251-5160.
g. Extension of Construction Permit (per station) | 701 & 159 | 150.00 | CGX | Federal Communications Commission, International Bureau—Earth Stations, P.O. Box 358160, Pittsburgh, PA 15251-5160.
4. Fixed Satellite transmit/receive Earth Stations (2 meters or less operating in the 4/6GHz frequency band)
a. Lead Application | 312 & Schedule B & 159 | 4,765.00 | BDS | Federal Communications Commission, International Bureau—Earth Stations, P.O. Box 358160, Pittsburgh, PA 15251-5160.
b. Routine Application (per station) | 312 & Schedule B & 159 | 50.00 | CAS | Federal Communications Commission, International Bureau—Earth Stations, P.O. Box 358160, Pittsburgh, PA 15251-5160.
c. Modification of License (per station) | 312 & 159 | 150.00 | CGS | Federal Communications Commission, International Bureau—Earth Stations, P.O. Box 358160, Pittsburgh, PA 15251-5160.
d. Assignment or Transfer:
(i) First Station | 312 & Schedule A & 159 | 425.00 | CNS | Federal Communications Commission, International Bureau—Earth Stations, P.O. Box 358160, Pittsburgh, PA 15251-5160.
(ii) Each Additional Station | Attachment To 312 & Schedule A | 50.00 | CAS | Federal Communications Commission, International Bureau—Earth Stations, P.O. Box 358160, Pittsburgh, PA 15251-5160.
e. Renewal of License (per station) | 405 & 159 | 150.00 | CGS | Federal Communications Commission, International Bureau—Earth Stations, P.O. Box 358160, Pittsburgh, PA 15251-5160.
f. Special Temporary Authority or Waiver of Prior Construction Authorization (per request) | Corres & 159 | 150.00 | CGS | Federal Communications Commission, International Bureau—Earth Stations, P.O. Box 358160, Pittsburgh, PA 15251-5160.
g. Amendment of Pending Application (per station) | 312 & Schedule B & 159 | 150.00 | CGS | Federal Communications Commission, International Bureau—Earth Stations, P.O. Box 358160, Pittsburgh, PA 15251-5160.
h. Extension of Construction Permit (per station) | 701 & 159 | 150.00 | CGS | Federal Communications Commission, International Bureau—Earth Stations, P.O. Box 358160, Pittsburgh, PA 15251-5160.
5. Receive Only Earth Stations
a. Initial Applications for Registration or License | 312 & Schedule B & 159 | 325.00 | CMO | Federal Communications Commission, International Bureau—Earth Stations, P.O. Box 358160, Pittsburgh, PA 15251-5160.
b. Modification of License or Registration (per station) | 312 & Schedule B & 159 | 150.00 | CGO | Federal Communications Commission, International Bureau—Earth Stations, P.O. Box 358160, Pittsburgh, PA 15251-5160.
c. Assignment or Transfer:
(i) First Station | 312 & Schedule A & 159 | 425.00 | CNO | Federal Communications Commission, International Bureau—Earth Stations, P.O. Box 358160, Pittsburgh, PA 15251-5160.
(ii) Each Additional Station | 312 & Schedule A & 159 | 145.00 | CFO | Federal Communications Commission, International Bureau—Earth Stations, P.O. Box 358160, Pittsburgh, PA 15251-5160.
d. Renewal of License (per station) | 405 & 159 | 150.00 | CGO | Federal Communications Commission, International Bureau—Earth Stations, P.O. Box 358160, Pittsburgh, PA 15251-5160.
e. Amendment of Pending Application (per station) | 312 & Schedule B & 159 | 150.00 | CGO | Federal Communications Commission, International Bureau—Earth Stations, P.O. Box 358160, Pittsburgh, PA 15251-5160.
f. Extension of Construction Permit (per station) | 701 & 159 | 150.00 | CGO | Federal Communications Commission, International Bureau—Earth Stations, P.O. Box 358160, Pittsburgh, PA 15251-5160.
g. Waivers (per request) | Corres & 159 | 150.00 | CGO | Federal Communications Commission, International Bureau—Earth Stations, P.O. Box 358160, Pittsburgh, PA 15251-5160.
6. Fixed Satellite Very Small Aperture Terminal (VSAT) Systems
a. Initial Application (per station) | 312 & Schedule B & 159 | 7,935.00 | BGV | Federal Communications Commission, International Bureau—Earth Stations, P.O. Box 358160, Pittsburgh, PA 15251-5160.
b. Modification of License (per system) | 312 & 159 | 150.00 | CGV | Federal Communications Commission, International Bureau—Earth Stations, P.O. Box 358160, Pittsburgh, PA 15251-5160.
c. Assignment or Transfer of System | 312 & Schedule A & 159 | 2,125.00 | CZV | Federal Communications Commission, International Bureau—Earth Stations, P.O. Box 358160, Pittsburgh, PA 15251-5160.
d. Renewal of License (per system) | 405 & 159 | 150.00 | CGV | Federal Communications Commission, International Bureau—Earth Stations, P.O. Box 358160, Pittsburgh, PA 15251-5160.
e. Special Temporary Authority or Waiver of Prior Construction Authorization (per request) | Corres & 159 | 150.00 | CGV | Federal Communications Commission, International Bureau—Earth Stations, P.O. Box 358160, Pittsburgh, PA 15251-5160.
f. Amendment of Pending Application (Per system) | 312 & Schedule B & 159 | 150.00 | CGV | Federal Communications Commission, International Bureau—Earth Stations, P.O. Box 358160, Pittsburgh, PA 15251-5160.
g. Extension of Construction Permit (per system) | 701 & 159 | 150.00 | CGV | Federal Communications Commission, International Bureau—Earth Stations, P.O. Box 358160, Pittsburgh, PA 15251-5160.
7. Mobile Satellite Earth Stations
a. Initial Applications of Blanket Authorization | 312 & Schedule B & 159 | 7,935.00 | BGB | Federal Communications Commission, International Bureau—Earth Stations, P.O. Box 358160, Pittsburgh, PA 15251-5160.
b. Initial Application for Individual Earth Station | 312 & Schedule B & 159 | 1,905.00 | CYB | Federal Communications Commission, International Bureau—Earth Stations, P.O. Box 358160, Pittsburgh, PA 15251-5160.
c. Modification of License (per system) | 312 & Schedule B & 159 | 150.00 | CGB | Federal Communications Commission, International Bureau—Earth Stations, P.O. Box 358160, Pittsburgh, PA 15251-5160.
d. Assignment or Transfer (per system) | 312 & Schedule A & 159 | 2,125.00 | CZB | Federal Communications Commission, International Bureau—Earth Stations, P.O. Box 358160, Pittsburgh, PA 15251-5160.
e. Renewal of License (per system) | 405 & 159 | 150.00 | CGB | Federal Communications Commission, International Bureau—Earth Stations, P.O. Box 358160, Pittsburgh, PA 15251-5160.
f. Special Temporary Authority of Waiver of Prior Construction Authorization (per request) | Corres & 159 | 150.00 | CGB | Federal Communications Commission, International Bureau—Earth Stations, P.O. Box 358160, Pittsburgh, PA 15251-5160.
g. Amendment of Pending Application (per system) | 312 & Schedule B & 159 | 150.00 | CGB | Federal Communications Commission, International Bureau—Earth Stations, P.O. Box 358160, Pittsburgh, PA 15251-5160.
h. Extension of Construction Permit (per system) | 701 & 159 | 150.00 | CGB | Federal Communications Commission, International Bureau—Earth Stations, P.O. Box 358160, Pittsburgh, PA 15251-5160.
8. Radio Determination Satellite Earth Station
a. Initial Application of Blanket Authorization | 312 & Schedule B & 159 | 7,935.00 | BGH | Federal Communications Commission, International Bureau—Earth Stations, P.O. Box 358160, Pittsburgh, PA 15251-5160.
b. Initial Application for Individual Earth Station | 312 & Schedule B & 159 | 1,905.00 | CYH | Federal Communications Commission, International Bureau—Earth Stations, P.O. Box 358160, Pittsburgh, PA 15251-5160.
c. Modification of License (per system) | 312 & Schedule B & 159 | 150.00 | CGH | Federal Communications Commission, International Bureau—Earth Stations, P.O. Box 358160, Pittsburgh, PA 15251-5160.
d. Assignments or Transfer (per system) | 312 & Schedule B & 159 | 2,010.00 | CHZ | Federal Communications Commission, International Bureau—Earth Stations, P.O. Box 358160, Pittsburgh, PA 15251-5160.
e. Renewal of License (per system) | 405 & 159 | 150.00 | CGH | Federal Communications Commission, International Bureau—Earth Stations, P.O. Box 358160, Pittsburgh, PA 15251-5160.
f. Special Temporary Authority or Waiver of Prior Construction Authorization (per request) | Corres & 159 | 150.00 | CGH | Federal Communications Commission, International Bureau—Earth Stations, P.O. Box 358160, Pittsburgh, PA 15251-5160.
g. Amendment of Pending Application (per system) | 312 & Schedule B & 159 | 150.00 | CGH | Federal Communications Commission, International Bureau—Earth Stations, P.O. Box 358160, Pittsburgh, PA 15251-5160.
h. Extension of Construction Permit (per system) | 701 & 159 | 150.00 | CGH | Federal Communications Commission, International Bureau—Earth Stations, P.O. Box 358160, Pittsburgh, PA 15251-5160.
9. Space Stations (Geostationary)
a. Application for Authority to Launch & Operate:
(i) Initial Application | 312 & 159 | 98,645.00 | BNY | Federal Communications Commission, International Bureau—Satellites, P.O. Box 358210, Pittsburgh, PA 15251-5210.
(ii) Replacement Satellite |  | 98,645.00 | BNY |
b. Assignment or Transfer (per satellite) | 312 & Schedule A & 159 | 7,050.00 | BFY | Federal Communications Commission, International Bureau—Satellites, P.O. Box 358210, Pittsburgh, PA 15251-5210.
c. Modification | 312 & 159 | 7,050.00 | BFY | Federal Communications Commission, International Bureau—Satellites, P.O. Box 358210, Pittsburgh, PA 15251-5210.
d. Special Temporary Authority (per request) | Corres & 159 | 705.00 | CRY | Federal Communications Commission, International Bureau—Satellites, P.O. Box 358210, Pittsburgh, PA 15251-5210.
e. Amendment of Pending Application (per request) | 312 & Schedule B & 159 | 1,410.00 | CWY | Federal Communications Commission, International Bureau—Satellites, P.O. Box 358210, Pittsburgh, PA 15251-5210.
10. Space Stations (Low-earth Orbit Satellite Systems)
a. Application for Authority to Launch and Operate (per system of technically identical satellites) | 312 & 159 | 339,730.00 | CLW | Federal Communications Commission, International Bureau—Satellites, P.O. Box 358210, Pittsburgh, PA 15251-5210.
b. Assignment or Transfer (per request) | 312 & 159 | 9,710.00 | CZW | Federal Communications Commission, International Bureau—Satellites, P.O. Box 358210, Pittsburgh, PA 15251-5210.
c. Modification (per request) | 312 & 159 | 24,270.00 | CGW | Federal Communications Commission, International Bureau—Satellites, P.O. Box 358210, Pittsburgh, PA 15251-5210.
d. Special Temporary Authority (per request) | Corres & 159 | 2,435.00 | CXW | Federal Communications Commission, International Bureau—Satellites, P.O. Box 358210, Pittsburgh, PA 15251-5210.
e. Amendment of Pending Application (per request) | 312 & 159 | 4,855.00 | CAW | Federal Communications Commission, International Bureau—Satellites, P.O. Box 358210, Pittsburgh, PA 15251-5210.
11. Direct Broadcast Satellites
a. Authorization to Construct or Major Modification (per request) | Corres & 159 | 2,865.00 | MTD | Federal Communications Commission, International Bureau—Satellites, P.O. Box 358210, Pittsburgh, PA 15251-5210.
b. Construction Permit and Launch Authority (per request) | Corres & 159 | 27,780.00 | MXD | Federal Communications Commission, International Bureau—Satellites, P.O. Box 358210, Pittsburgh, PA 15251-5210.
c. License to Operate (per request) | Corres & 159 | 27,780.00 | MXD | Federal Communications Commission, International Bureau—Satellites, P.O. Box 358210, Pittsburgh, PA 15251-5210.
d. Special Temporary Authority (per request) | Corres & 159 | 9,530.00 | MWD | Federal Communications Commission, International Bureau—Satellites, P.O. Box 358210, Pittsburgh, PA 15251-5210.
e. Hearing New and Major/Minor change, comparative Construction permit hearings; comparative license renewal | Corres & 159 | 9,530.00 | MWD | Federal Communications Commission, International Bureau, P.O. Box 358270, Pittsburgh, PA 15251-5170.
12. International Broadcast Stations
a. New Station & Facility Change Construction Permit (per applications) | 309 & 159 | 2,405.00 | MSN | Federal Communications Commission, International Bureau, P.O. Box 358175, Pittsburgh, PA 15251-5175.
b. New License (per application) | 310 & 159 | 545.00 | MNN | Federal Communications Commission, International Bureau, P.O. Box 358175 Pittsburgh, PA 15251—5175
c. License Renewal (per application) | 311 & 159 | 135.00 | MFN | Federal Communications Commission, International Bureau, P.O. Box 358175, Pittsburgh, PA 15251—5175
d. License Assignment or Transfer Control (per Station license) | 314 & 159 or 315 & 159, or 316 & 159 | 85.00 | MCN | Federal Communications Commission, International Bureau, P.O. Box 358175, Pittsburgh, PA 15251—5175
e. Frequency Assignment & Coordination (per frequency hour) | Corres & 159 | 50.00 | MAN | Federal Communications Commission, International Bureau, P.O. Box 358175, Pittsburgh, PA 15251—5175
f. Special Temporary Authorization (per application) | Corres & 159 | 145.00 | MGN | Federal Communications Commission, International Bureau, P.O. Box 358175, Pittsburgh, PA 15251—5175
13. Permit to Deliver Programs to Foreign Broadcast Stations (per application)
a. Commercial Television Stations | 308 & 159 | 80.00 | MBT | Federal Communications Commission, International Bureau, P.O. Box 358175, Pittsburgh, PA 15251-5175
b. Commercial AM or FM Radio Stations | 308 & 159 | 80.00 | MBR | Federal Communications Commission, International Bureau, P.O. Box 358175, Pittsburgh, PA 15251—5175
14. Recognized Private Operating Status (per application) | Corres & 159 | 860.00 | CUG | Federal Communications Commission, International Bureau, P.O. Box 358115, Pittsburgh, PA 15251—5115

8. Section 1.1109 is amended by revising the note immediately following paragraph (c) revising paragraph (d) introductory text and paragraph (e) and note to read as follows:

§ 1.1109 Payment of charges.

* * * * *

(c) * * *

Note: This requirement for the simultaneous submission of fees forms with applications or other filings does not apply to the payment of fees for which the Commission has established a billing process. See § 1.1119 of this subpart.

(d) Applications returned to applicants for additional information or corrections will not require an additional fee when resubmitted, unless the additional information results in an increase of the original fee amount. Those applications not requiring an additional fee should be resubmitted directly to the Bureau/Office requesting the additional information. The original fee will be forfeited if the additional information or corrections are not resubmitted to the appropriate Bureau/Office by the prescribed deadline. A forfeited application fee will not be refunded. If an additional fee is required, the original fee will be returned and the application must be resubmitted with a new remittance in the amount of the required fee to the Commission's lockbox bank. Applicants should attach a copy of the Commission's request for additional or corrected information to their resubmission.

* * * * *

(e) Should the staff change the status of an application, resulting in an increase in the fee due, the applicant will be billed for the remainder under the conditions established by § 1.1116(b) of the rules.

Note: Due to the statutory requirements applicable to tariff filings, the procedures for handling tariff filings may vary from the procedures set out in the rules.

9. Section 1.1110 is amended by revising paragraphs (a)(1), (a)(2) and (a)(3) to read as follows:

§ 1.1110 Form of payment.

(a) * * *

(1) Specific procedures for electronic payments are announced in Bureau/Office fee filing guides.

(2) It is the responsibility of the payer to insure that any electronic payment is made in the manner required by the Commission. Failure to comply with the Commission's procedures will result in the return of the application or other filing and the fee payment.

(3) Payments by wire transfer will be accepted; however, to insure proper credit, applicants must follow the instructions set out in the appropriate Bureau/Office fee filing guide.

* * * * *

10. Section 1.1111 is amended by revising paragraph (c) to read as follows:

§ 1.1111 Filing locations.

* * * * *

(c) Fees for applications and other filings pertaining to the Wireless Radio Services that are submitted electronically via ULS may be paid electronically or sent to the Commission's lock box bank manually. When paying manually, applicants must include the application file number (assigned by the ULS electronic filing system on FCC Form 159) and submit such number with the payment in order for the Commission to verify that the payment was made. Manual payments must be received no later than ten (10) days after receipt of the application on ULS or the application will be dismissed. Payment received more than ten (10) days after electronic filing of an application on a Bureau/Office electronic filing system (e.g., ULS) will be forfeited (see §§ 1.034 and 1.1109.)

11. Section 1.1113 is amended by revising paragraph (a)(1) to read as follows:

§ 1.1113 Return or refund of charges.

(a) * * *

(1) When no fee is required for the application or other filing. (see § 1.1109).

* * * * *

12. Section 1.1114 is amended by revising the introductory text to read as follows:

§ 1.1114 General exemptions to charges.

No fee established in §§ 1.1102 through 1.1107 of this subpart, unless otherwise qualified herein, shall be required for:

* * * * *

13. Section 1.1116 is amended by revising paragraph (a) introductory text to read as follows:

§ 1.1116 Penalty for late or insufficient payments.

(a) Filings subject to fees and accompanied by defective fee submissions will be dismissed under § 1.1109(b) of this subpart where the defect is discovered by the Commission's staff within 30 calendar days from the receipt of the application or filing by the Commission.

* * * * *

14. Section 1.1117 is amended by revising paragraphs (c)(1) and (e) to read as follows:

§ 1.1117 Petitions and applications for review.

* * * * *

(c) * * *

(1) Petitions and applications for review submitted with a fee must be submitted to the Commission's lock box bank at the address for the appropriate service set forth in §§ 1.1102 through 1.1107.

* * * * *

(e) Applicants seeking waivers must submit the request for waiver with the application or filing, required fee and FCC Form 159, or a request for deferral. A petition for waiver and/or deferral of payment must be submitted to the Office of the Managing Director as specified in paragraph (c) of this section. Waiver requests that do not include these materials will be dismissed in accordance with § 1.1109 of this subpart. Submitted fees will be returned if a waiver is granted. The Commission will not be responsible for delays in acting upon these requests.

15. Section 1.1119 is amended by revising paragraph (a) to read as follows:

§ 1.1119 Billing procedures.

(a) The fees required for the International Telecommunications Settlements (§ 1.1103 of this subpart) and Common Carrier Field Audits (§ 1.1105 of this subpart) should not be paid with the filing or submission of the request. The fees required for requests for Special Temporary Authority (see generally §§ 1.1102, 1.1104, 1.1106, & 1.1107 of this subpart).

* * * * *

[FR Doc. 02-27696 Filed 11-4-02; 8:45 am]

BILLING CODE 6712-01-P